DEPARTMENT OF STATE

[Public Notice 7651]

U.S. Department of State Advisory Committee on Private International Law (ACPIL)—Online Dispute Resolution Study Group Meeting (ODR)

The Department of State, Office of Legal Adviser, Office of Private International Law ACPIL online dispute resolution (ODR) study group would like to give notice of a public meeting on Friday October 28 from 10 a.m. to 1 p.m. EDT. The ACPIL ODR Study Group will meet to discuss the upcoming meeting of the UNCITRAL ODR Working Group that will take place November 14-18 in Vienna. The UNCITRAL ODR Working Group is charged with the development of legal instruments for resolving both business to business and business to consumer cross-border electronic commerce disputes. At the November meeting, the Working Group will continue to consider inter alia ODR procedural rules for resolution of cross-border electronic commerce disputes.

For the report of the first two sessions of the UNCITRAL ODR Working Group (December 13-17, 2010 in Vienna (A/CN.9/716) and May 23-27, 2011 in New York (A/CN.9/721)) please follow the following link: http://www.uncitral.org/uncitral/commission/working_groups/3Online_Dispute_Resolution.html.

We expect that a revised draft text of online procedural rules that will be considered at the upcoming UNCITRAL ODR Working Group session will be available on the same link before the meeting.

Time and Place: The public meeting will take place at the Office of the Assistant Legal Adviser for Private International Law, Department of State, Washington, DC. Participants should appear by 9:45 a.m. at the C Street gate to Navy Hill, corner of C Street, NW., and 23rd Street, NW., at the gate to the Navy Hill compound. If you are unable to attend the public meeting and would like to participate from a remote location, teleconferencing will be available.

Public Participation: This study group meeting is open to the public, subject to the capacity of the meeting room. Access to the meeting building is controlled; persons wishing to attend should contact Tricia Smeltzer or Niesha Toms of the Department of State Legal Adviser's Office at SmeltzerTK@state.gov or TomsNN@state.gov and provide your name, address, date of birth, citizenship, driver's license or passport number, e-mail address, and mailing address to get admission into the meeting. Persons who cannot attend but who wish to comment are welcome to do so by e-mail to Michael Dennis at DennisMJ@state.gov. A member of the public needing reasonable accommodation should advise those same contacts not later than October 21, 2011. Requests made after that date will be considered, but might not be able to be fulfilled. If you are unable to attend the public meeting and you would like to participate by teleconferencing, please contact Tricia Smeltzer 202-776-8423 or Niesha Toms at 202-776-8420 to receive the conference call-in number and the relevant information.

Dated: October 6, 2011.
Michael Dennis,
Attorney-Adviser, Office of Private International Law, Office of the Legal Adviser, Department of State.

[FR Doc. 2011-27216 Filed 10-19-11; 8:45 am]

BILLING CODE 4710-28-P